DEPARTMENT OF DEFENSE

Office of the Secretary

Advisory Panel on Department of Defense Capabilities for Support of Civil Authorities After Certain Incidents

AGENCY: Office of the Assistant Secretary of Defense (Homeland Defense and Americas' Security Affairs), DoD.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the Advisory Panel on Department of Defense Capabilities for Support of Civil Authorities after Certain Incidents (hereinafter referred to as the Advisory Panel) will take place:

DATES: Tuesday, September 15, 2009, from 12 p.m. to 5 p.m. and Wednesday, September 16, 2009, from 8:30 a.m. to 12 p.m. Eastern Daylight Time (hereinafter referred to as EDT).

ADDRESSES: The RAND Corporation, 1200 South Hayes Street, Arlington, Virginia 22202, 4th floor conference facilities. (Note: Members of the public who choose to attend the meeting should allow approximately 15 minutes to clear building security on the ground floor (Hayes Street entrance) and RAND security (4th floor reception area)).

FOR FURTHER INFORMATION CONTACT: Michael Wermuth, Co-Principal Investigator, RAND Corporation, 1200 South Hayes Street, Arlington, Virginia 22202, phone (703) 413-1100, x5414; Wermuth@rand.org.

SUPPLEMENTARY INFORMATION:

Purpose of the meeting: First an organizational meeting of the panel. The panel will elect a Chairperson from among its members and discuss the specifics of its congressional mandate. It will decide on topics for research and other activities for future meetings, based on its congressionally mandated tasks.

Agenda

• Welcome by RAND leadership

• Welcome by DoD official

• Panel Members Swearing-In

• Panel Member Introductions and Statements

• Ratification of By-Laws

• Election of Chairperson and Vice Chairperson

• RAND Overview and Staff Introductions

• Overview of Enabling Legislation—Congressional Mandate

• Charter/FACA Overview

• DoD Authorities and Key Policies Overview

• Key Definitions and Terminology

• Proposed Initial Research Topics

• Discussion of Future Meetings (including witnesses)

• Subpanels

• Other Protocols

• Administration

Public's Accessibility to the Meeting: Pursuant to 5 U.S.C. 552b and 41 CFR 102-3.140 through 102-3.165, and the availability of space, this meeting is open to the public. Seating is on a first-come basis. (Note: Members of the public who choose to attend the meeting should allow approximately 15 minutes to clear building security on the ground floor (Hayes Street entrance) and RAND security (4th floor reception area)).

Advisory Panel's Designated Federal Officer: Catherine Polmateer, telephone: 703-697-6370, OASD (HD&ASA), Resources Integration, 2600 Defense Pentagon, Washington, DC 20301-2600, e-mail: Catherine.Polmateer@osd.mil.

Advisory Panel's Points of Contact at the Federally Funded Research and Development Center (FFRDC): Michael Wermuth, Co-Principal Investigator, telephone 703-413-1100, x5414, e-mail: Wermuth@rand.org; or Gary Cecchine, Co-Principal Investigator, telephone 703-413-1100, x5319, e-mail: Cecchine@rand.org; The RAND Corporation, 1200 South Hayes Street, Arlington, Virginia 22202.

Written Statements: Pursuant to 41 CFR 102-3.105(j) and 102-3.140, and section 10(a)(3) of the Federal Advisory Committee Act of 1972 (FACA), the public or interested organizations may submit written statements to the Advisory Panel about its mission and functions. Written statements may be submitted at any time or in response to the stated agenda of a planned meeting of the Advisory Panel.

All written statements shall be submitted to the Designated Federal Officer for the Advisory Panel, and this individual will ensure that the written statements are provided to the membership for their consideration. Contact information for the Designated Federal Officer is provided in this notice or can be obtained from the GSA's FACA Database: https://www.fido.gov/facadatabase/public.asp.

Written statements being submitted in response to the agenda mentioned in this notice must be received by the Designated Federal Officer at the address listed above no later than 11 a.m., EDT, Thursday, September 10, 2009. Written statements received after this date may not be provided to or considered by the Advisory Panel until its next meeting.

The Designated Federal Officer will review all timely submissions with the Advisory Panel Chairperson and ensure they are provided to all members of the Advisory Panel before the meeting that is the subject of this notice.

All written statements received by the Designated Federal Officer will be retained as part of the committee's official records. In addition, statements timely submitted in response to a stated agenda of a planned meeting and provided to committee members in preparation for a meeting, will be made available to the public during the meeting and posted to the GSA's FACA Database.

Oral Statements: In addition to written statements, and time permitting, the Chairperson of the Advisory Panel may allow Oral Statements by the public to the Members of the Advisory Panel. Any person seeking to address orally the Advisory Panel must submit a request to the Designated Federal Officer no later than 11 a.m., EDT, Thursday, September 10, 2009. Oral statements will be limited to five minutes (or less depending on time available). The Designated Federal Officer will provide timekeeping for oral statements and will notify the Chairperson when a presenter has reached allotted time.

Dated: August 21, 2009.
Patricia L. Toppings,
OSD Federal Register Liaison Officer, Department of Defense.

[FR Doc. E9-20669 Filed 8-26-09; 8:45 am]

BILLING CODE 5001-06-P